DEPARTMENT OF THE TREASURY

Submission for OMB Review; Comment Request

January 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 28, 2002, to be assured of consideration.

Bureau of the Public Debt (PD)

OMB Number: New.

Form Number: PD F 5441.

Type of Review: New collection.

Title: U.S. Treasury Auctions Submitter Agreement.

Description: PD F 5441 is used to request information from entities wishing to participate in U.S. Treasury Securities Auctions via TAPPSLink.

Respondents: Business or other for-profit.

Estimated Number of Respondents: 1,000.

Estimated Burden Hours Per Respondent: 5 minutes.

Frequency of Response: On occasion.

Estimated Total Reporting Burden Hours: 80 hours.

Clearance Officer: Vicki S. Thorpe (304) 480-6553, Bureau of the Public Debt, 200 Third Street, Parkersburg, West VA 26106-1328

OMB Reviewer: Alexander T. Hunt (202) 395-7860, Office of Management and Budget, Room 10226, New Executive Office Building, Washington, DC 20503

Mary A. Able,
Departmental Reports Management Officer.

[FR Doc. 02-2132 Filed 1-28-02; 8:45 am]

BILLING CODE 4810-40-P